DEPARTMENT OF HOUSING AND URBAN DEVELOPMENT

[Docket No. FR-7090-N-10]

60-Day Notice of Proposed Information Collection: Stepped and Tiered Rent Demonstration Evaluation; OMB Control No.: 2528-0339

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 10, 2025.

ADDRESSES: Interested persons are to submit comments regarding this proposal.

Written comments and recommendations for the proposed information collection can be submitted within 60 days of publication of this notice to www.regulations.gov. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Stepped and Tiered Rent Demonstration Evaluation, Phase 2.

OMB Approval Number: 2528-0339.

Type of Request: Revision of currently approved collection.

Form Number: N/A.

Description of the need for the information and proposed use: HUD has selected 10 Public Housing Agencies (PHAs) to participate in the second cohort of the Moving to Work (MTW) Expansion, Stepped and Tiered Rent Demonstration (STRD). These PHAs are implementing an alternative rent policy (a stepped rent or tiered rent) that intends to reduce PHA administrative burden and increase economic self-sufficiency of assisted households. Five PHAs are implementing a stepped rent and five PHAs are implementing a tiered rent. HUD's Office of Policy Development and Research (PD&R) is evaluating the impacts of those alternative rent policies, using a randomized controlled trial. The evaluation will rely on data from a variety of sources, including new information collection efforts proposed in this Notice. HUD contracted with MDRC to conduct the first phase of the evaluation, including random assignment, baseline data collection, and monitoring PHA implementation, and has now contracted with MDRC to conduct the second phase of the evaluation, including further administrative baseline data collection and follow-up data collection for the first three years of the six-year demonstration.

This Federal Register notice is seeking to extend and build upon previously approved data collection activities. For the second phase (Phase 2) of the evaluation, additional interviews with PHA staff will be conducted to understand their experiences with the alternative rent policies and costs associated with administering the alternative rent rules, and a 30-month follow-up survey will be fielded to study participants to assess the effects of the alternative rent policies on key outcomes that cannot be captured with administrative records, including material hardship. In addition to collecting these data, the STRD project will continue monitoring the implementation of the alternative rent rules and collecting PHA records for this purpose. Data collected is being used to estimate the effects of the alternative rent rules on employment, earnings, housing subsidy, and other key outcomes.

Member of Affected Public: Public housing agency administrators/staff managing or implementing the new rent policy and participants enrolled in the STRD study.

Estimated Number of Respondents: Interviews with PHA staff will have an estimated 120 respondents. Additional data collection from PHA staff will have an estimated 40 respondents. The survey of study participants will be fielded to 8,000 individuals and the response rate is expected to be 60%, so the number of estimated respondents is 4,800.

Estimated Time per Response: The participant survey will take approximately 15 minutes to complete. PHA staff implementation interviews and the staff cost interviews (to administer the staff questionnaire) will take approximately 90 minutes each to complete. The cost study checklist to be completed by PHA staff will take approximately 6 minutes to complete.

Frequency of Response: The survey, cost study checklist, PHA staff implementation interviews, and PHA staff cost interviews will each be collected once.

Estimated Total Annual Burden Hours: The total annual burden for this information collection is 84.25 hrs.

Estimated Total Annual Cost: The total annual cost for this information collection is $19,973.96. The average hourly wage of study participants is estimated from state minimum wages for the 10 states where the participating housing agencies are located ($10.72). The assumed hourly wage rate for PHA staff is based on the May 2023 employment and wages from the Occupational Employment Statistics survey from the Bureau of Labor Statistics (http://www.bls.gov/oes/current/oes_stru.htm). The hourly rate used for PHA program Director/Managers is $48.77, is equivalent to Social/Community Service Manager (Local Government) under SOC code 11-9151. The hourly rate used for PHA Housing Specialists is $28.50, is equivalent to the Community and Social Service Specialist (Local Government) under SOC code 21-1099. To estimate the cost burden for the Cost Study Data collection (interviews and cost study checklist), we assume 2 managers and 2 specialists will be interviewed, for an average hourly rate of $38.64.

Respondent | Occupation | SOC code | Median hourly wage rate | Average (median) hourly wage rate
Study Participant | Various (assume state minimum wage) | NA | NA | $10.72
PHA Director/Manager | Social/Community Service Manager (Local Government) | 11-9151 | $48.77 | 48.77
PHA Housing Specialist | Community and Social Service Specialist (Local Government) | 21-1099 | 28.50 | 28.50
Source: Occupational Employment Statistics, accessed online May 2023, at http://www.bls.gov/oes/current/oes_stru.htm.

Respondent's Obligation: Voluntary.

Legal Authority: The data collection is conducted under title 12, United States Code, section 1701z and Section 3507 of the Paperwork Reduction Act of 1995, 44, U.S.C., Chapter 35.

Information Collection | Number of respondents | Frequency of response | Responses per annum | Burden hour per response | Annual burden hours | Hourly cost per response | Annual cost
30-Month Survey of Study Participants | 4,800 | 1 | 1 | 0.25 | 1,200 | $10.72 | $12,864
PHA Director/Manager Implementation Interview | 40 | 1 | 1 | 1.5 | 60 | 48.77 | 2,926
PHA Housing Specialist Implementation Interview | 40 | 1 | 40 | 1.5 | 60 | 28.50 | 1,710
PHA Staff Cost Study Interview | 40 | 1 | 40 | 1.5 | 60 | 38.64 | 2,318.40
PHA Staff Cost Study Checklist | 40 | 1 | 40 | .1 | 4 | 38.64 | 154.56
Total | 5,000 |  |  |  | 1,384 |  | 19,973.96

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research.

[FR Doc. 2025-00095 Filed 1-6-25; 8:45 am]

BILLING CODE 4210-67-P